ENVIRONMENTAL PROTECTION AGENCY

[EPA-HQ-OA-2010-0757; FRL-9307-5]

Agency Information Collection Activities; Submission to OMB for Review and Approval; Comment Request; Confidential Financial Disclosure Form 3110.48 for Special Government Employees (SGE) Serving on Federal Advisory Committees at the Environmental Protection Agency (Renewal)

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before June 17, 2011.

ADDRESSES: Submit your comments, referencing Docket ID No. EPA-HQ-OA-2010-0757, to (1) EPA online using www.regulations.gov (our preferred method), by e-mail to oei.docket@epa.gov, or by mail to: EPA Docket Center, Environmental Protection Agency, Mail Code 28227T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Vicki Ellis, Office of Federal Advisory Committee Management and Outreach, Mail Code 1601M, Environmental Protection Agency, 1200 Pennsylvania Ave., NW., Washington, DC 20460; telephone number: 202-564-1203; fax number: 202-564-8129; e-mail address: ellis.vicki@epa.gov.

SUPPLEMENTARY INFORMATION: EPA has submitted the following ICR to OMB for review and approval according to the procedures prescribed in 5 CFR 1320.12. On November 24, 2010, 75 FR 71687, EPA sought comments on this ICR pursuant to 5 CFR 1320.8(d). EPA received no comments. Any additional comments on this ICR should be submitted to EPA and OMB within 30 days of this notice.

EPA has established a public docket for this ICR under Docket ID No. EPA-HQ-OA-2010-0757, which is available for online viewing at www.regulations.gov, or in person viewing at the Environmental Information Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Environmental Information Docket is 202-566-9744.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Confidential Financial Disclosure Form 3110.48 for Special Government Employees (SGE) Serving on Federal Advisory Committees at the Environmental Protection Agency (Renewal).

ICR numbers: EPA ICR No. 2260.04, OMB Control No. 2090-0029.

ICR Status: This ICR is scheduled to expire on 5/31/2011. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The purpose of this information collection is to assist the United States Environmental Protection Agency (EPA or the Agency) in selecting Federal advisory committee members who will be appointed as Special Government Employees (SGEs), mostly to EPA's scientific and technical committees. To select SGE members as efficiently and cost effectively as possible, the Agency needs to evaluate potential conflicts of interest before a candidate is hired as an SGE and appointed as a member to a committee by EPA's Administrator or Deputy Administrator. Agency officials developed the “Confidential Financial Disclosure Form for Special Government Employees serving on Federal Advisory Committees at the U.S. Environmental Protection Agency,” also referred to as Form 3110-48, for greater inclusion of information to discover any potential conflicts of interest as recommended by the Government Accountability Office.

Burden Statement: The annual public reporting and recordkeeping burden for this collection of information is estimated to average one hour per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

• Respondents/Affected Entities: Entities potentially affected by this action are approximately 300 candidates for membership as Special Government Employees (SGEs) on EPA Federal Advisory Committees.

• Estimated Number of Respondents: 257.

• Frequency of Response: Annual.

• Estimated Total Annual Hour Burden: 257.

• Estimated Total Annual Cost: $27,139. There is no capital investment or maintenance and operational costs.

Changes in the Estimates: The burden estimates have been changed to reflect an increase of respondent costs to complete the form to cover the next three years. There is no increase of hours in the total estimated respondent burden compared with that identified in the ICR currently approved by OMB.

Dated: May 12, 2011.
John Moses,
Director, Collection Strategies Division.

[FR Doc. 2011-12209 Filed 5-17-11; 8:45 am]

BILLING CODE 6560-50-P